DEPARTMENT OF HEALTH AND HUMAN SERVICES

Administration for Children and Families

Proposed Information Collection Activity; Comment Request

Title: Permanency Innovations Initiative Evaluation: Phase 4.

OMB No.: 0970-0408.

Description: The Administration for Children and Families (ACF), U.S. Department of Health and Human Services (HHS) intends to collect additional data for an evaluation of the Permanency Innovations Initiative (PII). This 5-year initiative, funded by the Children's Bureau (CB) within ACF, is intended to build the evidence base for innovative interventions that enhance well-being and improve permanency outcomes for particular groups of children and youth who are at risk for long-term foster care and who experience the most serious barriers to timely permanency.

Data collection for the PII evaluation includes a number of components being launched at different points in time. Phase 1 (approved August 2012, OMB# 0970-0408) included data collection for a cross-site implementation evaluation and site-specific evaluations of two PII grantees (Washoe County, Nevada, and the State of Kansas). Phase 2 (approved August 2013) included data collection for two more PII grantees (Illinois DCFS and one of two interventions offered by the Los Angeles LGBTQ Center's Recognize Intervene Support Empower [RISE] project). Phase 3 (approved July 2014) included data collection for an evaluation of another PII grantee intervention and two additional cross-site PII studies. The grantee intervention was a second RISE intervention, the Care Coordination Team (CCT). The two PII cross-site studies were a cost study and an administrative data study.

Phase 4 will include data collection for another PII grantee, the California Department of Social Services' California Partnership for Permanency (CAPP) project.

Respondents: Spanish and English speaking Biological parents, legal guardians, foster parents (or caregivers).

Annual Burden Estimates
Instrument | Total number of respondents | Annual number of respondents | Number of responses per respondent | Average burden hours per response | Total annual burden hours
CAPP Parent-Legal Guardian Self-Administered Questionnaire, Telephone Questionnaire | 1205 | 402 | 1 | .6 | 241
CAPP Caregiver Self-Administered Questionnaire, Telephone Questionnaire | 2231 | 744 | 1 | .6 | 446
CAPP annual burden hours |  |  |  |  | 687

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. Email address: OPREinfocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
ACF/OPRE Reports Clearance Officer.

[FR Doc. 2014-29641 Filed 12-17-14; 8:45 am]

BILLING CODE 4184-01-P